EXPORT-IMPORT BANK OF THE UNITED STATES

Sunshine Act Meeting

ACTION: Revised Notice of an opening meeting of the Board of Directors of the Export-Import Bank of the United States.

Time and Place: Thursday, September 25, 2003 at 9:30 a.m. The meeting will be held at Ex-Im Bank in Room 1143, 811 Vermont Avenue, NW., Washington, DC 20571.

Open Agenda Items: (1) PEFCO Secured Note Issues (Resolution); and (2) amendment to the Ex-Im Bank Bylaws.

Public Participation: The meeting will be open to public participation. Attendees that are not employees of the Executive Branch will be required to sign in prior to the meeting.

FOR FURTHER INFORMATION CONTACT: For further information, contact: Office of the Secretary, 811 Vermont Avenue, NW., Washington, DC 20571 (Telephone No. 202-565-3957).

Peter B. Saba,
General Counsel.

[FR Doc. 03-24448 Filed 9-23-03; 3:38 pm]

BILLING CODE 6690-01-M